OFFICE OF SCIENCE AND TECHNOLOGY POLICY

Notice of Request for Information; National Strategic Plan for Advanced Manufacturing

AGENCY: Office of Science and Technology Policy.

ACTION: Notice; extension of comment period.

SUMMARY: The Office of Science and Technology Policy published a document in the Federal Register on June 20, 2025, requesting input from all interested parties on the development of a National Strategic Plan for Advanced Manufacturing. This document extends the deadline for submission of responses.

DATES: OSTP is extending the deadline for responses to 11:59 p.m. ET on December 12, 2025.

FOR FURTHER INFORMATION CONTACT: Please email the Advanced Manufacturing National Program Office at amnpo@nist.gov or call Said Jahanmir at 301-975-0844.

SUPPLEMENTARY INFORMATION: In the Federal Register of June 20, 2025, 90 FR 26335, OSTP requested input from all interested parties on the development of a National Strategic Plan for Advanced Manufacturing. Through this Request for Information (RFI), OSTP seeks input from the public regarding Federal programs and activities to advance United States manufacturing competitiveness, including advanced manufacturing research and development that will create jobs, grow the economy across multiple industrial sectors, strengthen national security, and improve healthcare. The public input provided in response to this RFI will inform the development of the National Strategic Plan for Advanced Manufacturing. With this notice, the deadline for responses is extended to December 12, 2025.

Dated: September 12, 2025.
Stacy Murphy,
Deputy Chief Operations Officer/Security Officer.

[FR Doc. 2025-17840 Filed 9-15-25; 8:45 am]

BILLING CODE 3270-F1-P